DEPARTMENT OF THE INTERIOR

National Park Service

Notice of Inventory Completion: Slater Museum of Natural History, University of Puget Sound, Tacoma, WA

AGENCY: National Park Service, Interior.

ACTION: Notice.

Notice is here given in accordance with the Native American Graves Protection and Repatriation Act (NAGPRA), 25 U.S.C. 3003, of the completion of an inventory of human remains in the possession of the Slater Museum of Natural History, University of Puget Sound, Tacoma, WA. The human remains were removed from Oak Harbor, Island County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Slater Museum of Natural History, University of Puget Sound professional staff and with help from a consultant in consultation with representatives of the Swinomish Indians of the Swinomish Reservation, Washington and Tulalip Tribes of the Tulalip Reservation, Washington.

In 1936, human remains representing a minimum of two individuals were removed from Oak Harbor, Island County, WA, by Preston Wright. The human remains were later donated to the Slater Museum of Natural History, University of Puget, by Mr. Wright. No known individuals were identified. No associated funerary objects are present.

The individuals are most likely of Native American ancestry as indicated by morphological features.

The geographical location where the human remains were recovered is consistent with the historically documented territory of the Lower Skagit tribe. Ethnographic and historical sources place the Lower Skagit tribe in the location of Oak Harbor (Tribes of Western Washington and Northwestern Oregon, Dall 1877; ICC 1974 Final Decision; Distribution of Tribes of the Upper Columbia Region in Washington, Oregon, and Idaho, Mooney 1896; A History of the Swinomish Tribal Community, Roberts 1975; The Coast Salish of Puget Sound, Smith 1941; Tribal Distribution in Washington, Spier, 1936; Identity, Treaty Status, and Fisheries of the Swinomish Indian Tribal Communities, Lane 1978; ICC Decision for Skagit, Docket No. 294; ICC Decision for Snohomish, Docket No. 125; ICC Decision for Snoqualmie, Docket No. 93; United States v. State of Washington 1985, 626 Federal Supplement 1405). There was extensive travel of the Puget Sound waterways, including the Oak Harbor area, by other tribes; however, the individuals are most likely Lower Skagit. Descendants of the Lower Skagit are members of the Swinomish Indians of the Swinomish Reservation, Washington.

Based on provenience, historical documentation, and tribal consultation there is a reasonable belief that the human remains share a common ancestry with members of the tribes now represented by the Swinomish Indians of the Swinomish Reservation, Washington.

Officials of the Slater Museum of Natural History, University of Puget Sound have determined that, pursuant to 25 U.S.C. 3001 (9-10), the human remains described above represent the physical remains of two individuals of Native American ancestry. Officials of the Slater Museum of Natural History, University of Puget Sound also have determined that, pursuant to 25 U.S.C. 3001 (2), there is a relationship of shared group identity that can be reasonably traced between the Native American human remains and the Swinomish Indians of the Swinomish Reservation, Washington.

Representatives of any other Indian tribe that believes itself to be culturally affiliated with the human remains should contact Alyce DeMarais, Associate Dean, University of Puget Sound, 1500 N. Warner, Tacoma, WA 98416, telephone (253) 879-3207, before July 5, 2007. Repatriation of the human remains to the Swinomish Indians of the Swinomish Reservation, Washington may proceed after that date if no additional claimants come forward.

The Slater Museum of Natural History, University of Puget Sound is responsible for notifying the Swinomish Indians of the Swinomish Reservation, Washington and Tulalip Tribes of the Tulalip Reservation, Washington that this notice has been published.

Dated: May 4, 2007
Sherry Hutt,
Manager, National NAGPRA Program.

[FR Doc. E7-10729 Filed 6-1-07; 8:45 am]

BILLING CODE 4312-50-S